DEPARTMENT OF COMMERCE

International Trade Administration

Renewable Energy Trade Mission to Mexico; May 16-19, 2016

AGENCY: International Trade Administration, Department of Commerce.

ACTION: Notice.

SUMMARY: The United States Department of Commerce, International Trade Administration, is amending the Notice published at 80 FR 76658 (December 10, 2015), regarding the executive-led Renewable Energy Trade Mission to Mexico, scheduled for May 16-19, 2016, to extend the date of the application deadline from March 4, 2016 to the new deadline of March 17, 2016. Applications received after March 17, 2016, will be considered only if space and scheduling constrains permit and participation fees must be paid by March 31, 2016.

SUPPLEMENTARY INFORMATION: Amendments to Revise the Dates.

Background

Due to the recent personnel changes, applications for this Mission will now be accepted through March 17, 2016 (and after that date if space remains and scheduling constraints permit). Interested U.S. companies and trade associations/organizations providing renewable energy equipment, technology, and services which have not already submitted an application are encouraged to do so.

The U.S. Department of Commerce will review applications and make selection decisions on a staggered basis. The applicants selected will be notified as soon as possible.

Contact Information

Ethel M. Azueta Glen, International Trade Specialist, Trade Missions, U.S. Department of Commerce, Washington, DC 20230, Tel: 202-482-5388, Fax: 202-482-9000, Ethel.Glen@trade.gov.

Frank Spector,
Director, Trade Missions Program.

[FR Doc. 2016-05411 Filed 3-9-16; 8:45 am]

BILLING CODE 3510-DR-P